DEPARTMENT OF TRANSPORTATION

Federal Transit Administration

Notice of Meeting of the Transit Rail Advisory Committee for Safety (TRACS)

AGENCY: Federal Transit Administration, DOT.

ACTION: Notice of meeting.

SUMMARY: This notice announces a public meeting of the Transit Rail Advisory Committee for Safety (TRACS). TRACS is a Federal Advisory Committee established by the U.S. Secretary of Transportation (the Secretary) in accordance with the Federal Advisory Committee Act to provide information, advice, and recommendations to the Secretary and the Federal Transit Administrator on matters relating to the safety of public transportation systems.

DATES: The TRACS meeting will be held on May 29, 2013, from 8:30 a.m. to 5 p.m. (EST), and May 30, 2013, from 8:30 a.m. to 5 p.m. (EST). Contact Bridget Zamperini (see contact information below) by 5 p.m. (EST) on May 22, if you wish to be added to the visitor list to gain access to the Transport Workers Union of America's Quill Room.

ADDRESSES: The meeting will be held at the Transport Workers Union of America (TWU), Quill Room, 501 3rd Street NW., Washington, DC 20001. Attendees who are on the visitor list can access the building by presenting a valid photo ID. Although this meeting is open to the public, the meeting facility is a secure building. Attendees who have not pre-registered with FTA must be cleared by TWU personnel on site.

SUPPLEMENTARY INFORMATION: This notice is provided in accordance with the Federal Advisory Committee Act (Pub. L. 92-463, 5 U.S.C. App. 2). As noted above, TRACS is a Federal Advisory Committee established to provide information, advice, and recommendations to the Secretary and the Administrator of the Federal Transit Administration (FTA) on matters relating to the safety of public transportation systems. TRACS is composed of 24 members representing a broad base of expertise necessary to discharge its responsibilities. The first meeting of TRACS was held September 9-10, 2010, the second meeting of TRACS was held April 27-28, 2011, the third meeting was held February 23-24, 2012 and the fourth meeting of TRACS was held September 20-21, 2012. The tentative agenda for the fifth meeting of TRACS is set forth below:

Agenda

(1) Welcome Remarks/Introductions

(2) Facility Use/Safety Briefing

(3) MAP-21 Presentation (Update)

(4) Recap of TRACS Activities

(5) Future TRACS Activities/Deliverables

(6) Public Comments

(7) Wrap Up

As previously noted, this meeting will be open to the public; however, the Transport Workers Union of America Quill Room is a secured facility and persons wishing to attend must contact Bridget Zamperini, Office of Safety and Oversight, Federal Transit Administration, (202) 366-0306; or at TRACS@dot.gov by 5 p.m. (EST) on May 22, 2013, to have your name added to the security list. Members of the public, who wish to make an oral statement at the meeting or seeking special accommodations, are also directed to make a request to Bridget Zamperini, Office of Safety and Oversight, Federal Transit Administration (202) 366-0306; at TRACS@dot.gov on or before the close of business May 22, 2013. Provisions will be made to include oral statements on the agenda, if needed. Members of the public may submit written comments or suggestions concerning the activities of TRACS at any time before or after the meeting at TRACS@dot.gov, or to the U.S. Department of Transportation, Federal Transit Administration, Office of Safety and Security, Room E45-310, 1200 New Jersey Avenue SE., Washington, DC 20590. Attention: Bridget on the TRACS page at http://www.fta.dot.gov/about/13099.html. Written comments submitted to TRACS will also be posted at the above web address.

Issued on: May 9, 2013.
Peter Rogoff,
Administrator.

[FR Doc. 2013-11516 Filed 5-13-13; 8:45 am]

BILLING CODE 4910-57-P